DEPARTMENT OF LABOR

Employment and Training Administration

[TA-W-74,895, et al.]

Wellpoint, Inc. D/B/A/Anthem Blue Cross & Blue Shield, et al.; Amended Certification Regarding Eligibility To Apply for Worker Adjustment Assistance

TA-W-74,895

Wellpoint, Inc. D/B/A/Anthem Blue Cross & Blue Shield Enterprise Provider Data Management Team Including On-Site Leased Workers from Kelly Services and Jacobsen Group Indianapolis, Indiana

TA-W-74,895A

Wellpoint, Inc. D/B/A/Anthem Health Plans of Kentucky Enterprise Provider Data Management Team Louisville, Kentucky

TA-W-74,895B

Wellpoint, Inc. Enterprise Provider Data Management Team Saint Louis, Missouri

TA-W-74,895C

Wellpoint, Inc. D/B/A/Anthem Enterprise Provider Data Management Team (Pewaukee) Waukesha, Wisconsin

TA-W-74,895D

Wellpoint, Inc. D/B/A/Anthem Enterprise Provider Data Management Team Richmond, Virginia

TA-W-74,895E

Wellpoint, Inc. D/B/A/Anthem East Enterprise Provider Data Management Team North Haven, Connecticut

TA-W-74,895F

Wellpoint, Inc. D/B/A/Blue Cross Blue Shield of Georgia Enterprise Provider Data Management Team Atlanta, Georgia

TA-W-74,895G

Wellpoint, Inc. D/B/A/Blue Cross Blue Shield Of Georgia Enterprise Provider Data Management Team Columbus, Georgia

TA-W-74,895H

Wellpoint, Inc. D/B/A/Anthem East Enterprise Provider Data Management Team South Portland, Maine

TA-W-74,895I

Wellpoint, Inc. D/B/A/Anthem East Enterprise Provider Data Management Team Manchester, New Hempshire

TA-W-74,895J

Wellpoint, Inc. D/B/A/Empire Blue Cross and Blue Shield Enterprise Provider Data Management Team Albany, New York

TA-W-74,895K

Wellpoint, Inc. D/B/A/Empire Blue Cross and Blue Shield Enterprise Provider Data Management Team Brooklyn, New York

TA-W-74,895L

Wellpoint, Inc. D/B/A/Anthem Enterprise Provider Data Management Team Mason, Ohio

In accordance with Section 223 of the Trade Act of 1974, as amended (“Act”), 19 U.S.C. 2273, the Department of Labor issued a Certification of Eligibility to Apply for Worker Adjustment Assistance on January 12, 2011, applicable to workers of Wellpoint, Inc., Enterprise Provider Data Management Team, including on-site leased workers from Kelly Services and Jacobsen Group, Indianapolis, Indiana. The workers provide health insurance transactional services. The notice was published in the Federal Register on January 26, 2011 (76 FR 4731).

At the request of the State agency, the Department reviewed the certification for workers of the firm. New findings show that worker separations occurred during the relevant time period at the above mentioned locations of Wellpoint, Inc., Enterprise Provider Data Management Team. Each location operates in conjunction with the Indianapolis, Indiana location. All were part of the overall servicing operation and were impacted by the firm shifting health insurance transactional services to a foreign country.

Accordingly, the Department is amending this certification to include workers at the above mentioned locations of Wellpoint, Inc., Enterprise Provider Data Management Team. The intent of the Department's certification is to include all workers of the firm who were adversely affected by a shift of health insurance transactional services to a foreign country.

The amended notice applicable to TA-W-74,895 is hereby issued as follows:

All workers of Wellpoint, Inc., d/b/A Anthem Blue Cross & Blue Shield, Enterprise Provider Data Management Team, including on-site leased workers from Kelly Services and Jacobsen Group, Indianapolis, Indiana (TA-W-74,895), Wellpoint, Inc., d/b/a/Anthem Health Plans of Kentucky, Enterprise Provider Data Management Team, Louisville, Kentucky (TA-W-74,895A), Wellpoint, Inc., Enterprise Provider Data Management Team, Saint Louis, Missouri (TA-W-74,895B), Wellpoint, Inc., d/b/a Anthem, Enterprise Provider Data Management Team, (Pewaukee), Waukesha, Wisconsin (TA-W-74,895C), Wellpoint, Inc., d/b/a Anthem, Enterprise Provider Data Management Team, Richmond, Virginia (TA-W-74,895D), Wellpoint, Inc., d/b/a Anthem East, Enterprise Provider Data Management Team, North Haven, Connecticut (TA-W-74,895E), Wellpoint, Inc., d/b/a Blue Cross Blue Shield of Georgia, Enterprise Provider Data Management Team, Atlanta, Georgia (TA-W-74,895F), Wellpoint, Inc., d/b/a Blue Cross Blue Shield of Georgia, Enterprise Provider Data Management Team, Columbus, Georgia (TA-W-74,895G), Wellpoint, Inc., d/b/a Anthem East, Enterprise Provider Data Management Team, South Portland, Maine (TA-W-74,895H), Wellpoint, Inc., d/b/a Anthem East, Enterprise Provider Data Management Team, Manchester, New Hampshire (TA-W-74,895I) Wellpoint, Inc., d/b/a Empire Blue Cross, Enterprise Provider Data Management Team, Albany, New York (TA-W-74,895J) Wellpoint, Inc., d/b/a Empire Blue Cross and Blue Shield, Enterprise Provider Data Management Team, Brooklyn, New York (TA-W-74,895K) Wellpoint, Inc., d/b/a Anthem, Enterprise Provider Data Management Team, Mason, Ohio (TA-W-74,895L), who became totally or partially separated from employment on or after November 15, 2009, through January 12, 2013, and all workers in the group threatened with total or partial separation from employment on the date of certification through two years from the date of certification, are eligible to apply for adjustment assistance under Chapter 2 of Title II of the Trade Act of 1974, as amended.

Signed in Washington, DC, this 30th day of March, 2011.
Michael W. Jaffe,
Certifying Officer, Office of Trade Adjustment Assistance.

[FR Doc. 2011-8306 Filed 4-6-11; 8:45 am]

BILLING CODE 4510-FN-P